NUCLEAR REGULATORY COMMISSION

10 CFR Part 72

[NRC-2016-0103]

RIN 3150-AJ75

List of Approved Spent Fuel Storage Casks: Holtec International HI-STORM Flood/Wind Multipurpose Canister Storage System, Amendment No. 2

AGENCY: Nuclear Regulatory Commission.

ACTION: Direct final rule; confirmation of effective date.

SUMMARY: The U.S. Nuclear Regulatory Commission (NRC) is confirming the effective date of November 7, 2016, for the direct final rule that was published in the Federal Register on August 23, 2016. The direct final rule amended the NRC's spent fuel storage regulations by revising the “List of Approved Spent Fuel Storage Casks” to include Amendment No. 2 to Certificate of Compliance (CoC) No. 1032 for the Holtec International (Holtec) HI-STORM Flood/Wind (FW) Multipurpose Canister (MPC) Storage System.

DATES: Effective Date: The effective date of November 7, 2016, for the direct final rule published August 23, 2016 (81 FR 57442), is confirmed.

ADDRESSES: Please refer to Docket ID NRC-2016-0103 when contacting the NRC about the availability of information for this action. You may obtain publicly-available information related to this action by any of the following methods:

• Federal Rulemaking Web site: Go to http://www.regulations.gov and search for Docket ID NRC-2016-0103. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Vanessa Cox, Office of Nuclear Material Safety and Safeguards, U.S. Nuclear Regulatory Commission, Washington, DC 20555-0001; telephone: 301-415-8342 or email: Vanessa.Cox@nrc.gov.

SUPPLEMENTARY INFORMATION: On August 23, 2016 (81 FR 57442), the NRC published a direct final rule amending § 72.214 of title 10 of the Code of Federal Regulations (10 CFR) by revising the “List of approved spent fuel storage casks” to include Amendment No. 2 to CoC No. 1032 for the Holtec HI-STORM FW MPC Storage System. Amendment No. 2 adds new fuel types to the HI-STORM FW MPC Storage System, adds new criticality calculations, updates an existing fuel type description, includes changes previously incorporated in Amendment No. 0 to CoC No. 1032, Revision 1, and makes clarifying changes to a CoC condition. In the direct final rule, the NRC stated that if no significant adverse comments were received, the direct final rule would become effective on November 7, 2016. As described more fully in the direct final rule, a significant adverse comment is a comment where the commenter explains why the rule would be inappropriate, including challenges to the rule's underlying premise or approach, or would be ineffective or unacceptable without a change.

The NRC received two comments on the direct final rule (ADAMS Accession Nos. ML16252A336 and ML16271A024). As described below, the NRC determined that these were not significant adverse comments and did not make any changes to the direct final rule as a result of the public comments.

One comment stated “good.” The NRC determined that this comment does not meet the criteria of significant and adverse because it does not explain why the rule is inappropriate. The other comment contained general statements and questions about dry cask storage systems manufactured by Holtec and used overseas, Independent Spent Fuel Storage Installations, and the infrastructure for the transportation of spent fuel. The NRC determined that this general comment about spent fuel storage and transportation is not within the scope of the direct final rule, which is limited to the specific changes contained in Amendment No. 2 to CoC No. 1032. Therefore, because no significant adverse comments were received, the direct final rule will become effective as scheduled. The final CoC, Technical Specifications, and Safety Evaluation Report can be viewed in ADAMS under Accession No. ML16280A008.

Dated: November 1, 2016.
For the Nuclear Regulatory Commission.
Cindy Bladey,
Chief, Rules, Announcements, and Directives Branch, Division of Administrative Services, Office of Administration.

[FR Doc. 2016-26775 Filed 11-4-16; 8:45 am]

BILLING CODE 7590-01-P